ENVIRONMENTAL PROTECTION AGENCY

[ER-FRL-9051-5]

Environmental Impact Statements; Notice of Availability

Responsible Agency: Office of Federal Activities, General Information 202-564-5632 or https://www.epa.gov/nepa.

Weekly receipt of Environmental Impact Statements (EIS)

Filed June 15, 2020, 10 a.m. EST Through June 22, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200130, Final, USFS, OR, Flat Country, Review Period Ends: 08/10/2020, Contact: Dean Schlichting 541-822-7214.

EIS No. 20200131, Draft, USACE, FL, Florida Keys Coastal Storm Risk Management Report/Environmental Impact Statement, Comment Period Ends: 08/10/2020, Contact: Kathy Perdue 757-201-7218.

EIS No. 20200132, Final, BR, CA, Auburn State Recreation Area Preliminary General Plan and Auburn Project Lands Draft Resource Management Plan Final Environmental Impact Report/Environmental Impact Statement, Review Period Ends: 07/27/2020, Contact: Bonnie Van Pelt 916-537-7062.

EIS No. 20200133, Final, BLM, AK, National Petroleum Reserve in Alaska Final Integrated Activity Plan and Environmental Impact Statement, Review Period Ends: 07/27/2020, Contact: Stephanie Rice 907-271-3202.

Amended Notice

EIS No. 20200111, Draft, CHSRA, CA, Burbank to Los Angeles Project Section Draft Environmental Impact Report/Environmental Impact Statement, Comment Period Ends: 07/31/2020, Contact: Dan McKell 916-330-5668.

Revision to FR Notice Published 5/29/2020; Extending the Comment Period from 7/13/2020 to 7/31/2020.

Dated: June 23, 2020.
Candi Schaedle,
Acting Director, NEPA Compliance Division, Office of Federal Activities.

[FR Doc. 2020-13809 Filed 6-25-20; 8:45 am]

BILLING CODE 6560-50-P